DEPARTMENT OF TRANSPORTATION

Federal Aviation Administration

14 CFR Part 39

[Docket No. FAA-2005-21344; Directorate Identifier 2004-NM-190-AD]

RIN 2120-AA64

Airworthiness Directives; Short Brothers Model SD3 Series Airplanes

AGENCY: Federal Aviation Administration (FAA), Department of Transportation (DOT).

ACTION: Notice of proposed rulemaking (NPRM).

SUMMARY: The FAA proposes to supersede an existing airworthiness directive (AD) that applies to all Short Brothers Model SD3-30 and SD3-60 series airplanes equipped with certain fire extinguishers. The existing AD currently requires replacement of the covers for fire extinguisher adapter assemblies that are installed on certain bulkheads with new covers that swivel to lock the extinguishers in place; and replacement of nozzles and triggers on these fire extinguishers with better fitting nozzles and stronger triggers. The existing AD also currently requires the installation of new fire extinguisher point placards and a revision of the Airplane Flight Manual (AFM) to instruct the flightcrew in the use of the new covers for these adapter assemblies. This proposed AD would also require modification of the fire extinguishing point adapter assembly of the forward and aft baggage bays as applicable. This proposed AD also would add airplanes to the applicability. For these new airplanes, this proposed AD would require a revision to the AFM for instructions on using the new fire extinguisher adapter. This proposed AD is prompted by reports of individuals experiencing fire extinguishant blowback when the extinguishant discharges through the fire extinguishing point adapters. We are proposing this AD to prevent fire extinguishant blowback, which could result in injury to a person using the fire extinguisher in the event of a fire.

DATES: We must receive comments on this proposed AD by July 5, 2005.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Short Brothers, Airworthiness & Engineering Quality, P.O. Box 241, Airport Road, Belfast BT3 9DZ, Northern Ireland.

You can examine the contents of this AD docket on the Internet at http://dms.dot.gov, or in person at the Docket Management Facility, U.S. Department of Transportation, 400 Seventh Street SW., room PL-401, on the plaza level of the Nassif Building, Washington, DC. This docket number is FAA-2005-21344; the directorate identifier for this docket is 2004-NM-190-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

We invite you to submit any relevant written data, views, or arguments regarding this proposed AD. Send your comments to an address listed under ADDRESSES. Include “Docket No. FAA-2005-21344; Directorate Identifier 2004-NM-190-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On April 22, 1998, we issued AD 98-09-28, amendment 39-10509 (63 FR 24387, May 4, 1998), for all Shorts Model SD3-30 and SD3-60 series airplanes equipped with certain fire extinguishers. That AD requires replacement of the covers for fire extinguisher adapter assemblies that are installed on certain bulkheads with new covers that swivel to lock the extinguishers in place; and replacement of nozzles and triggers on these fire extinguishers with better fitting nozzles and stronger triggers. That AD also requires the installation of new fire extinguisher point placards and a revision of the airplane flight manual to instruct the flightcrew in the use of the new covers for these adapter assemblies. That AD was prompted by reports that these fire extinguishers are not discharging properly because they do not fit correctly with the adapter, and that triggers on these extinguishers are failing. We issued that AD to ensure that, in the event of fire in the baggage bay, extinguishing agent is properly distributed within this area, and portable extinguishers operate properly; and to prevent injury to crew and passengers when a portable extinguisher is discharged.

Actions Since Existing AD Was Issued

Since we issued the AD, the Civil Aviation Authority (CAA), which is the airworthiness authority for the United Kingdom, notified us that the unsafe condition of AD 98-09-28 may still exist on all Short Brothers Model SD3-30 and SD3-60 series airplanes and also may exist on all Model SD3-60 SHERPA and SD3-SHERPA series airplanes. The CAA advises that, while fighting fires in the forward and aft baggage bays, individuals have reported experiencing fire extinguishant blowback when the extinguishant discharges through the fire extinguishing point adapters. Because the nozzle of the extinguisher and the adapter do not fit together correctly, the extinguishant is “blown back” into the forward and aft baggage bays. Fire extinguishant blowback, when discharging through the fire extinguishing point adapters, if not prevented, could result in injury to a person using the fire extinguisher in the event of a fire.

Relevant Service Information

Shorts has issued the following service bulletins.

Model | Shorts service bulletin | Date
SD3-30 series airplanes | SD330-26-15 | May 29, 2002.
SD3-60 series airplanes | SD360-26-13 | May 29, 2002.
SD3-60 SHERPA series airplane | SD360 Sherpa-26-1 | May 29, 2002.
SD3-SHERPA series airplanes | SD3 Sherpa-26-3 | May 29, 2002.

The service bulletins describe procedures for modifying the fire extinguishing point adapter assembly of the forward and aft baggage bays, as applicable. The modification includes the following procedures:

• Removing the existing cover and O-ring of the fire extinguishing point adapter assembly of the forward and aft baggage bays, as applicable.

• Installing a new flexible adapter insert in the fire extinguishing point adapter assembly.

• Fitting new instruction labels.

Shorts has also issued the following AFM revisions for instructions on using the new fire extinguisher adapter:

• Short Brothers Document No. SB.6.2, Amendment P/5, dated February 6, 2002 (for Model SD3-60 SHERPA series airplanes); and

• Short Brothers Document No. SB.5.2, Amendment P/7, dated February 6, 2002 (for Model SD3-SHERPA series airplanes).

Accomplishing the actions specified in the service information is intended to adequately address the unsafe condition. The CAA mandated the service information and issued British airworthiness directives 005-05-2002, 006-05-2002, 007-05-2002, and 008-05-2002, to ensure the continued airworthiness of these airplanes in the United Kingdom.

FAA's Determination and Requirements of the Proposed AD

These airplane models are manufactured in the United Kingdom and are type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that AD action is necessary for airplanes of this type design that are certificated for operation in the United States.

This proposed AD would supersede AD 98-09-28. This proposed AD would retain the requirements of the existing AD. This proposed AD would also require modifying the fire extinguishing point adapter assembly of the forward and aft baggage bays as applicable; and, for certain airplanes, revising the Limitations section of the AFM for instructions on using the new fire extinguisher adapter.

Change to Existing AD

This proposed AD would retain all requirements of AD 98-09-28. Since AD 98-09-28 was issued, the AD format has been revised, and certain paragraphs have been rearranged. As a result, the corresponding paragraph identifiers have changed in this proposed AD, as listed in the following table:

Revised Paragraph Identifiers
Requirement in AD 98-09-28 | Corresponding requirement in this proposed AD
paragraph (a) | paragraph (f).
paragraph (b) | paragraph (g).
paragraph (c) | paragraph (h).

Costs of Compliance

This proposed AD would affect about 75 airplanes of U.S. registry.

The actions that are required by AD 98-09-28 and retained in this proposed AD take about between 9 and 14 work hours per airplane, depending on airplane configuration, at an average labor rate of $65 per work hour. Required parts cost about between $735 and $776 per airplane, depending on airplane configuration. Based on these figures, the estimated cost of the currently required actions is between $1,320 and $1,686 per airplane.

The new proposed actions would take about 1 work hour per airplane, at an average labor rate of $65 per work hour. Based on these figures, the estimated cost of the new actions specified in this proposed AD for U.S. operators is $4,875, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-10509 (63 FR 24387, May 4, 1998) and adding the following new airworthiness directive (AD):

Short Brothers PLC: Docket No. FAA-2005-21344; Directorate Identifier 2004-NM-190-AD.

Comments Due Date

(a) The Federal Aviation Administration must receive comments on this AD action by July 5, 2005.

Affected ADs

(b) This AD supersedes AD 98-09-28, amendment 39-10509 (63 FR 24387, May 4, 1998).

Applicability

(c) This AD applies to all Short Brothers Model SD3 series airplanes, certificated in any category.

Unsafe Condition

(d) This AD was prompted by reports of individuals experiencing fire extinguishant blowback when the extinguishant discharges through the fire extinguishing point adapters. We are issuing this AD to prevent fire extinguishant blowback, which could result in injury to a person using the fire extinguisher in the event of a fire.

Compliance

(e) You are responsible for having the actions required by this AD performed within the compliance times specified, unless the actions have already been done.

Requirements of AD 98-09-28

Install New Covers

(f) For Model SD3-30 and SD3-60 series airplanes equipped with Fire Fighting Enterprises (U.K.) Ltd. fire extinguishers: Within 6 months after June 8, 1998 (the effective date of AD 98-09-28), install a new cover on each fire extinguisher adapter assembly on bulkheads between the passenger cabin and aft and/or forward baggage bay, in accordance with Shorts Service Bulletin SD330-26-14, dated September 1994 (for Shorts Model SD3-30 series airplanes), or Shorts Service Bulletin SD360-26-11, dated July 1994 (for Shorts Model SD3-60 series airplanes), as applicable.

Install Placards and Revise the Airplane Flight Manual (AFM)

(g) For Model SD3-30 and SD3-60 series airplanes equipped with Fire Fighting Enterprises (U.K.) Ltd. fire extinguishers: Prior to further flight after accomplishing the actions required by paragraph (f) of this AD, accomplish both paragraphs (g)(1) and (g)(2) of this AD:

(1) Install new fire extinguisher point placards, in accordance with Shorts Service Bulletin SD330-26-14, dated September 1994 (for Shorts Model SD3-30 series airplanes), or Shorts Service Bulletin SD360-26-11, dated July 1994 (for Shorts Model SD3-60 series airplanes), as applicable. And

(2) Revise the Limitations section of the FAA-approved AFM, in accordance with Note 1 of Paragraph 1.C. of Shorts Service Bulletin SD330-26-14, dated September 1994 (for Shorts Model SD3-30 series airplanes), or Shorts Service Bulletin SD360-26-11, dated July 1994 (for Shorts Model SD3-60 series airplanes), as applicable.

Corrective Actions for Fire Extinguishers with Certain Part Numbers

(h) For Model SD3-30 and SD3-60 series airplanes equipped with fire extinguishers having part number (P/N) BA51012SR-3 or BA51012SR: Within 6 months after June 8, 1998, accomplish either paragraph (h)(1) or (h)(2) of this AD:

(1) Install a chamfered nozzle on the discharge head assembly of each fire extinguisher and add a new trigger by replacing the discharge head assembly with a new discharge head assembly, having P/N BA22988-3, in accordance with Fire Fighting Enterprises (U.K.) Ltd. Service Bulletin 26-107, Revision 1, dated November 2, 1992.

Or

(2) Replace the trigger on the discharge head assembly of each fire extinguisher with a new trigger, in accordance with Fire Fighting Enterprises (U.K.) Ltd. Service Bulletin 26-108, dated September 1992. After replacement, install a chamfered nozzle on the discharge head assembly of each fire extinguisher by reworking the discharge head assembly in accordance with Fire Fighting Enterprises (U.K.) Ltd. Service Bulletin 26-107, Revision 1, dated November 2, 1992.

New Requirements of This AD

Modify the Fire Extinguishing Point Adapter Assembly

(i) For Model SD3 series airplanes equipped with Fire Fighting Enterprises (U.K.) Ltd. fire extinguishers: Within 3 months after the effective date of this AD, modify the fire extinguishing point adapter assembly of the forward and aft baggage bays, as applicable, by doing all of the actions specified in the Accomplishment Instructions of Shorts Service Bulletin SD330-26-15, dated May 29, 2002 (for Model SD3-30 series airplanes); Shorts Service Bulletin SD360-26-13, dated May 29, 2002 (for Model SD3-60 series airplanes); Shorts Service Bulletin SD360 Sherpa-26-1, dated May 29, 2002 (for Model SD3-60 SHERPA series airplane); or Shorts Service Bulletin SD3 Sherpa-26-3, dated May 29, 2002 (for Model SD3-SHERPA series airplanes); as applicable.

Revise AFM of Certain Airplanes

(j) For Model SD3-60 SHERPA and SD3-SHERPA series airplanes equipped with Fire Fighting Enterprises (U.K.) Ltd. fire extinguishers: Before further flight after accomplishing the modification required by paragraph (i) of this AD, revise the Limitations section of the AFM by inserting into the AFM a copy of Short Brothers Document No.SB.6.2, Amendment P/5, dated February 6, 2002 (for Model SD3-60 SHERPA series airplanes); or Short Brothers Document No.SB.5.2, Amendment P/7, dated February 6, 2002 (for Model SD3-SHERPA series airplanes); as applicable.

Alternative Methods of Compliance (AMOCs)

(k) The Manager, International Branch, ANM-116, Transport Airplane Directorate, FAA, has the authority to approve AMOCs for this AD, if requested in accordance with the procedures found in 14 CFR 39.19.

Related Information

(l) British airworthiness directives 005-05-2002, 006-05-2002, 007-05-2002, and 008-05-2002 also address the subject of this AD.

Issued in Renton, Washington, on May 26, 2005.
Ali Bahrami,
Manager, Transport Airplane Directorate, Aircraft Certification Service.

[FR Doc. 05-11059 Filed 6-2-05; 8:45 am]

BILLING CODE 4910-13-P